NATIONAL AERONAUTICS AND SPACE ADMINISTRATION

[Notice (02-057)]

NASA Advisory Committee; Notice of Establishment

AGENCY: National Aeronautics and Space Administration (NASA). The Administrator of the National Aeronautics and Space Administration has determined that the establishment of an Aerospace Medicine and Occupational Health Advisory Committee is necessary and in the public interest in connection with the performance of duties imposed upon NASA by law. This determination follows consultation with the Committee Management Secretariat, General Services Administration.

Name of Committee: Aerospace Medicine and Occupational Health Advisory Committee.

Purpose and Objective: The Committee will advise the NASA Administrator through the NASA Advisory Council on programs, policies, plans, and other matters pertinent to the Agency's responsibilities for aerospace medicine and occupational health. Aerospace medicine responsibilities broadly relate to all health and medical issues impacting space flight. Occupational health responsibilities include compliance with externally mandated occupational safety and health requirements and the provision of effective, uniform basic health services to employees of the Agency. The Committee's advice will span crucial health and safety practices in all work environments, on the ground, in the air, and in space. Areas of advice will include the direction and requirements for NASA's clinical research in support of human space flight, standards for occupational health and medical practice, and medical and ethical standards for human and animal research and clinical practice.

Balanced Membership Plans: The Committee will consist of 6 to 11 members. At least one member of the Office of Biological and Physical Research Advisory Committee, the Space Flight Advisory Committee, and the Aerospace Safety Advisory Panel will be appointed to the Committee to ensure robust communication and integration between these advisory groups on all matters affecting health. Membership will be balanced with experts in Aerospace Medicine, Occupational Health, clinical medicine practice, and medical management.

Duration: Continuing.

Responsible NASA Official: Dr. Richard S. Williams, Chief Health and Medical Officer, National Aeronautics and Space Administration, 300 E Street, SW., Washington, DC 20546, telephone 202/358-0702.

Dated: May 9, 2002.
Sylvia K. Kraemer,
Advisory Committee Management Officer, National Aeronautics and Space Administration.

[FR Doc. 02-12625 Filed 5-20-02; 8:45 am]

BILLING CODE 7510-01-P